FEDERAL MARITIME COMMISSION

[DOCKET NO. 22-28]

Notice of Filing of Complaint and Assignment; Way Interglobal Network, LLC Complainant v. Shenzhen Unifelix SCM Limited, Respondent

Notice is given that a complaint has been filed with the Federal Maritime Commission (Commission) by Way Interglobal Network, LLC hereinafter “Complainant,” against Shenzhen Unifelix SCM Limited, hereinafter “Respondent.” Complainant states that it is a limited liability company organized in the State of Indiana. Complainant identifies the Respondent as a non-vessel-operating common carrier based in China.

Complainant alleges that Respondent violated 46 U.S.C. 41102(c), 41102(d), 41103(a), 41104(a)(1), 41104(a)(4)(E), and 41104(a)(10) in its practices, disclosure of financial information, assessment of charges, and the rates and terms of its service contract related to the movement of containers. The full text of the complaint can be found in the Commission's Electronic Reading Room at https://www2.fmc.gov/readingroom/proceeding/22-28/.

This proceeding has been assigned to Office of Administrative Law Judges. The initial decision of the presiding officer in this proceeding shall be issued by October 21, 2023, and the final decision of the Commission shall be issued by May 6, 2024.

Served: October 21, 2022.
William Cody,
Secretary.

[FR Doc. 2022-23359 Filed 10-26-22; 8:45 am]

BILLING CODE 6730-02-P